DEPARTMENT OF EDUCATION

[CFDA No.: 84.306N]

Office of Educational Research and Improvement; American Indian and Alaska Native Education Research Grant Program; Notice Inviting Applications for New Awards for Fiscal Year (FY) 2001

Purpose of Program: The purpose of the American Indian and Alaska Native (AIAN) Education Research Grant Program is to fund research, evaluation, and data collection to provide information on the status of education for the Indian population and on the effectiveness of Indian Education Programs. For FY 2001 the competition for new awards focuses on projects designed to meet the absolute priority published elsewhere in this issue of the Federal Register.

Eligible Applicants: Indian Tribes, Indian organizations, State education agencies, local education agencies, institutions of higher education, including Indian institutions of higher education, and other public and private agencies and institutions, or a consortium of these institutions that meet the requirements of 34 CFR 75.127 through 75.129 of EDGAR.

Applications Available: June 29, 2001 for hardcopies.

On the date of publication of this notice application packages will also be available electronically on the World Wide Web at the following site: www.ed.gov/GrantApps/

Deadline for Transmittal of Applications: July 30, 2001.

Estimated Available Funds: Approximately $1.4 million.

Estimated Range of Awards: The size of the awards will be commensurate with the nature and scope of the work proposed.

Estimated Number of Awards: 5.

Note: The Department is not bound by any estimates in this notice.

Budget Period: 12 months.

Project Period: 12 to 36 months.

Page Limit: The application narrative may not exceed the equivalent of 20 double-spaced pages, with printing on only one side of 8½ x 11-inch paper. Our reviewers will not read any pages of your application that—

• Exceed the page limit if you apply these standards; or

• Exceed the equivalent of the page limit if you apply other standards.

Note: We have found that reviewers are able to conduct the highest quality review when applications are concise and easy to read. We strongly encourage applicants to use a 12-point or larger size font, one-inch margins at the top, bottom, and both sides, and pages numbered consecutively.

Applicable Regulations: (a) The Education Department General Administrative Regulations (EDGAR) in 34 CFR parts 74, 75, 77, 80, 81, 82, 85, 86 (part 86 applies to IHEs only), 97, 98, and 99. (b) The regulations in 34 CFR part 700.

Priority: This competition focuses on projects designed to meet the absolute priority in the notice of final priority for this program, published elsewhere in this issue of the Federal Register.

Under 34 CFR 75.105(c)(3) we consider only applications that meet this priority.

SUPPLEMENTARY INFORMATION: Collaboration: The Secretary encourages collaboration in the conduct of this research. Examples of collaboration include: public and private research institutions collaborating with Indian organizations, including schools funded by the Bureau of Indian Affairs; and tribal colleges collaborating with major research universities and local educational agencies in urban areas serving high concentrations of Indian children.

For Applications Contact: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its web site: http://www.ed.gov/pubs/edpubs.html. Or you may contact ED Pubs at its E-mail address: edpubs@inet.ed.gov.

If you request an application from ED Pubs, be sure to identify this competition as follows: CFDA Number 84.306N.

FOR FURTHER INFORMATION CONTACT: Karen Suagee, American Indian and Alaska Native Research Grant Program, Office of Educational Research and Improvement, U.S. Department of Education, 555 New Jersey Avenue, NW., Room 610B, Washington, DC 20208-5521. Telephone: (202) 219-2244 or via Internet: karen.suagee@ed.gov or you may contact Eileen O'Brien, at the same program and address. Telephone: (202) 208-2978 or via Internet: eileen.o'brien@ed.gov.

If you use a telecommunications device for the deaf (TDD), you may call the Federal Information Relay Service (FIRS) at 1-800-877-8339.

Individuals with disabilities may obtain this document in an alternative format (e.g., Braille, large print, audiotape, or computer diskette) on request to the program contact persons listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: (20 U.S.C. 6031(c)(2)(B); 20 U.S.C. 7873 and 20 U.S.C. 7881(4)).

Dated: June 12, 2001.
Sue Betka,
Deputy Assistant Secretary, Office of Educational Research and Improvement.

[FR Doc. 01-15179 Filed 6-14-01; 8:45 am]

BILLING CODE 4000-01-P